DEPARTMENT OF TRANSPORTATION

Surface Transportation Board

[STB Finance Docket No. 33974]

Tulsa-Sapulpa Union Railway Company, L.L.C.—Acquisition and Operation Exemption—Union Pacific Railroad Company

Tulsa-Sapulpa Union Railway Company, L.L.C., a limited liability company and Class III rail carrier, has filed a verified notice of exemption under 49 CFR 1150.41 to lease and operate a line of railroad owned by Union Pacific Railroad Company. The line, known as the Jenks Industrial Lead and also referred to as the Midland Valley Branch, runs south and southeasterly between Tulsa, OK, milepost 149.29, and Jenks, OK, milepost 136.40, a distance of approximately 12.68 miles.

The parties report that they intend to close the transaction on the later of the effective date of the exemption or January 1, 2001. The earliest the transaction can be consummated is December 21, 2000 (7 days after the exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33974, must be filed with the Surface Transportation Board, Office of the Secretary, Case Control Unit, 1925 K Street, N.W., Washington, DC 20423-0001. In addition, a copy of each pleading must be served on Byron D. Olson, Esq., Felhaber, Larson, Fenlon & Vogt, P.A., 601 Second Avenue South, Suite 4200, Minneapolis, MN 55402.

Board decisions and notices are available on our website at “WWW.STB.DOT.GOV.”

Decided: December 19, 2000.
By the Board, David M. Konschnik,
Director, Office of Proceedings.
Vernon A. Williams,
Secretary.

[FR Doc. 00-32838 Filed 12-22-00; 8:45 am]

BILLING CODE 4915-00-P